CORPORATION FOR NATIONAL AND COMMUNITY SERVICE

Funding Opportunity for Provision of Training and Technical Assistance to the AmeriCorps Promise Fellows Grantees

AGENCY: Corporation for National and Community Service.

ACTION: Notice of funding opportunity.

SUMMARY: Subject to the availability of appropriations, the Corporation for National and Community Service (Corporation) will use approximately $250,000 to support an organization selected under this Notice to provide training and technical assistance to the AmeriCorps Promise Fellows Program. The organization selected will, on a national level: (1) Foster a national identity among Fellows based on their participation in a common national endeavor; (2) design and help implement training and technical assistance activities to provide Fellows and sponsors with the skills required to fulfill their mission; and (3) facilitate the exchange of information and effective practices among Fellows, sponsors and others involved in the AmeriCorps Promise Fellows Program.

The Corporation intends to enter into a cooperative agreement of up to three years, beginning on or about March 1, 2002. The funding opportunity announced under this Notice will support the initial phase of the agreement (generally the first year's budget), with additional funding contingent upon need, quality of service, the nature and scope of activities to be supported, and availability of appropriations for this purpose.

Note: This is a notice for selection of an organization to provide training and technical assistance to national service grantees. This is not a notice for program grant proposals.

DATES: Proposals must be received by the Corporation by 3 p.m. Eastern time on January 18, 2002. The Corporation anticipates making an award under this announcement in March 2002.

ADDRESSES: Submit proposals to the Corporation for National and Community Service, 1201 New York Avenue, NW., Washington, DC 20525, Attention: Cathy Harrison, 9612A.

FOR FURTHER INFORMATION CONTACT: David Bellama at the Corporation for National and Community Service, (202) 606-5000, ext 483, TTY (202) 565-2799; e-mail dbellama@cns.gov . This Notice is available on the Corporation's Web site, http://www.nationalservice.org/whatshot/notices/. Upon request, this information will be made available in alternate formats for people with disabilities.

SUPPLEMENTARY INFORMATION:

I. The Corporation for National and Community Service

Background

The Corporation is a federal government corporation that encourages Americans of all ages and backgrounds to engage in national and community service. This service addresses the nation's educational, public safety, environmental and other human needs to achieve direct and demonstrable results. In doing so, the Corporation fosters civic responsibility, strengthens the ties that bind us together as a people, and provides educational opportunity for those who make a substantial contribution to service. For more information about the Corporation and the activities it supports, go to http://www.nationalservice.org.

II. Conditions

A. Legal Authority

Section 198 of the National and Community Service Act of 1990, as amended, 42 U.S.C. 12653, authorizes the Corporation to provide, directly or through contracts or cooperative agreements, training and technical assistance in support of activities under the national service laws. Section 125 of the National and Community Service Act and titles I and II of the Domestic Volunteer Service Act provide additional authority.

B. Cooperative Agreements

An award made under this Notice will be in the form of a cooperative agreement. Administration of cooperative agreements is controlled by Corporation regulations, 45 CFR part 2541 (for agreements with state and local government agencies) and 45 CFR part 2543 (for agreements with institutions of higher education, non-profit organizations and commercial entities). The provider must comply with reporting requirements, including submitting semi-annual financial reports and progress reports linking progress on deliverables to expenditures.

Cooperative agreements require substantial involvement on the part of the government. Substantial involvement includes frequent and regular communication with and monitoring by the Corporation's cognizant training officer (COTR). The COTR will confer with the provider on a regular basis to review project status and service delivery, including work plans, budgets, periodic reports, materials developed, preparation for and implementation of training events, targeting of the provider's services, and assessment of the provider's effectiveness.

C. Time Frame

The Corporation expects that activities assisted under the agreement awarded through this Notice will commence on or about March 1, 2002, following the conclusion of the selection and award process. The Corporation will make an award covering a period not to exceed three years. Applications must include a detailed work plan of proposed activities and a line-item budget for year one of the agreement and should note projected changes to proposed activities for years two and three of the award period. If the Corporation approves an application and enters into a multi-year award agreement, funding will be provided for the first year only. Funding for the second and third years of an award period is contingent upon need, quality of service, the nature and scope of activities to be supported, and availability of appropriations for the purpose of the award. The Corporation has no obligation to provide additional funding in subsequent years.

D. Use of Materials

To ensure that materials generated with Corporation funding for training and technical assistance purposes are available to the public and readily accessible to grantees and sub-grantees, the Corporation reserves a royalty-free, non-exclusive, and irrevocable right to obtain, use, reproduce, publish, or disseminate publications and materials produced under the agreement, including data, and to authorize others to do so. The provider must agree to make such publications and materials available to the national service field, as identified by the Corporation, at no cost or at the cost of reproduction. All materials developed for the Corporation must be consistent with Corporation editorial and publication guidelines and must be accessible to individuals with disabilities to the extent required by law.

III. Eligibility

State and local government entities, non-profit organizations, institutions of higher education, Indian tribes, and commercial entities are eligible to apply. Pursuant to the Lobbying Disclosure Act of 1995, an organization described in section 501(c)(4) of the Internal Revenue Code of 1986, 26 U.S C. 501(c)(4), which engages in lobbying, is not eligible to apply. Organizations that operate or intend to operate Corporation-supported programs are eligible.

The Corporation anticipates making a single award for this purpose. We will consider proposals from single applicants, applicants in partnership and applicants proposing other approaches to meeting the requirement that we consider to be responsive to this Notice.

Organizations may apply to provide training and technical assistance in partnership with organizations seeking other Corporation funds. Based on previous training and technical assistance competitions and our estimate of potential applicants, we expect fewer than ten applications to be submitted.

IV. AmeriCorps Promise Fellows Program

A. Background

The AmeriCorps Promise Fellows Program was created to provide leadership, support, and continued momentum to the campaign initiated by the Presidents' Summit for America's Future. Held in Philadelphia in April 1997, the Presidents' Summit was an historic gathering of then-President Clinton, former Presidents Bush, Carter and Ford, Nancy Reagan representing Ronald Reagan, and over 3,000 business, nonprofit, government, faith, and civic leaders. At the Summit, the Presidents and Ret. General Colin Powell, who chaired the event, challenged these leaders to raise civic power to a new level to solve the problems of American society. They asked them to commit more time, talent, and resources to children and youth using the framework of the five promises, which are:

• Ongoing relationships with a caring adults—parents, mentors, tutors or coaches;

• Safe places with structured activities during nonschool hours;

• Healthy start and future;

• Marketable skills through effective education;

• Opportunities to give back through community service.

In the wake of the Summit, America's Promise—The Alliance for Youth was formed to carry forward the work begun in Philadelphia. As local Summit follow up activities got underway, however, it soon became apparent that to significantly increase the delivery of the five promises, communities would need leaders who could devote full-time energy to these initiatives.

In response to this need, the Corporation for National Service, which co-sponsored the Summit with the Points of Light Foundation, joined with America's Promise to establish the AmeriCorps Promise Fellows Program. Since the inaugural class of Fellows began service in early 1999, nearly 500 Fellows annually have dedicated a year of service to spearhead state and local efforts to deliver the five promises to children and youth. For more information about America's Promise, go to www.americaspromise.org.

B. Role of an AmeriCorps Promise Fellow

AmeriCorps Promise Fellows serve in state or local nonprofit organizations, public agencies, colleges and universities, schools and other community-based organizations dedicated to promoting the five promises and engaged in the America's Promise campaign. While direct service to children and youth may be a component of a Fellow's service, Fellows are primarily capacity-builders. Their service activities expand, strengthen and improve a community's ability to deliver the five promises in sustainable ways. For example, a Fellow may:

• Coordinate a Community of Promise campaign to provide a targeted number of young people with all five promises;

• Develop a youth service program at a Volunteer Center;

• Replicate a successful after-school program across the school district;

• Train volunteers to enlist low-income families in health insurance programs;

• Create a job-shadowing program for high school students; or

• Establish a statewide database of effective practices for mentoring programs.

Over the course of their service, Fellows develop specific knowledge of their community's resources related to the five promises placing them in a unique position to promote the importance of all children receiving all five promises. Therefore, in addition to their specific service assignments, Fellows are expected to become knowledgeable advocates in their communities for the five-promise approach.

C. Provider's Relationship to the AmeriCorps Promise Fellows Program

This Notice seeks a provider to work with the Corporation and with sponsors of the AmeriCorps Promise Fellows program throughout the country. Sponsors receive grants to operate AmeriCorps Promise Fellows programs, and can be state commissions for national and community service, national non-profit organizations and Indian tribes. For the purposes of this notice, the term “sponsor” also includes organizations that have been selected by grantees to administer an AmeriCorps Promise Fellows program or to serve as host organizations for an AmeriCorps Promise Fellow(s).

The provider will need to coordinate at the national level with the Corporation and America's Promise. It will also be required to work in a complementary role with the sponsors listed above and, in some instances, directly with AmeriCorps Promise Fellows.

V. Scope of Training and Technical Assistance To Be Supported: Tasks and Delivery Requirements

The Provider selected under this Notice will provide training services and ongoing technical assistance, and develop and disseminate training curricula and materials to the AmeriCorps Promise Fellows Program. The Corporation requires providers to integrate the deliverables and principles listed below into their service delivery.

A. Training and Technical Assistance Tasks

The Corporation expects the provider selected under this Notice to engage in the following activities. Because implementation of the different activities will be subject to availability of funds, separate budgets should be developed for each:

1. Technical Assistance and the Promotion of a National Program Identity. The provider will develop and maintain materials and systems that identify and respond to needs of the AmeriCorps Promise Fellows Program and promote a national AmeriCorps Promise Fellow Identity through:

• Newsletters/periodic communications, peer exchange, electronic and telephone communication and technical assistance, and development and dissemination of materials, identity items, etc.;

• Materials and technical support in content and skill areas relevant to the AmeriCorps Promise Fellows Program, such as community outreach, resource mobilization, community strengthening, developing partnerships, etc.;

• Identification and highlighting of Fellows' and sponsors' achievements.

2. Training Support. The provider will take the lead in designing and delivering training programs, curricula and materials in support of the AmeriCorps Promise Fellows Program. These may include materials and activities such as:

• Training and Technical Assistance Needs Assessment

• Orientation Curriculum and Materials for Both Fellows and Sponsors

• Training Program for Sponsors

• Training Sessions for Fellows at other conferences and events related to the national service field.

3. Program Coordination. The provider will support the implementation of the AmeriCorps Promise Fellow Program by:

Facilitating information exchange through regular communications with and between the Corporation, America's Promise and sponsors, including design and management of an information system, periodic oral, electronic and written reports and other communications about the status of the Fellows Program.

4. Self-Evaluation. The provider will implement a program of continuous improvement, including periodic self-assessments and follow-up to ensure that issues identified in the assessments are addressed, and will share these assessments with the Corporation.

B. Training and Technical Assistance Delivery Requirements

1. Delivery Requirements

a. Ensure that all training and technical assistance and resources including web sites are accessible to persons with disabilities, as required by law, to include the following:

i. Notify potential participants that reasonable accommodations will be provided upon request;

ii. Provide reasonable accommodations when requested to do so, including provision of sign language interpreters, special assistance, and documents in alternate formats;

iii. Use accessible locations for training events;

iv. Provide training and technical assistance materials that are accessible to persons with disabilities, by using accessible technology, providing materials in alternate formats upon request, captioning videos, avoiding non-voice-over formats, and when indicating a telephone number, including a non-voice telephone alternative such as TDD or e-mail;

2. Evaluation

a. Conduct an evaluation after each training and technical assistance event.

b. Maintain records of these evaluations and provide them to the Corporation, or an authorized representative, upon request.

c. Submit aggregate evaluation summaries of training and technical assistance events as part of progress reports to the Corporation.

The Corporation may conduct an independent assessment of each provider's performance.

3. Reporting Requirements

The provider is responsible for submitting timely progress and financial reports during and at the conclusion of the award period to the Corporation as follows:

a. Semi-annual Progress Reports

Progress reports must be submitted semi-annually and are due on July 31 for the period ending June 30 and January 31 for the period ending December 31 for each budget period during the cooperative agreement. The provider must develop the capacity to submit this information electronically. At a minimum, progress reports must provide the information below:

i. A comparison of accomplishments with the goals and objectives for the reporting period;

ii. An annotated version of the approved budget that compares actual costs with budgeted costs by line item, and explains differences. The explanation should include, as appropriate, an analysis of cost overruns and high-cost units and a description of service requests not anticipated in the provider's original budget;

iii. A description of the services provided to include:

(a) Number of requests received by topic area and stream of service;

(b) Activity conducted to address each request (e.g., training, on-site technical assistance, phone consultation and other electronic communication, and materials development and shipment) and mode of delivery (e.g., staff member, consultant, peer and/or other provider);

(c) Number of participants in each training and technical assistance event;

(d) Client feedback on the services rendered (including the aggregate evaluation of each training event); and

(e) Problems encountered in delivering services with recommendations for correcting them.

iv. List of upcoming activities and events with dates and locations;

v. Recommended training and technical assistance focus areas as suggested by analyses of service activities and trends;

vi. Discussion of developments that hindered, or may hinder, compliance with the cooperative agreement;

vii. List of materials submitted to the National Service Resource Center and National Service-Learning Clearinghouse;

viii. List of practices and supporting documentation or materials submitted to the Effective Practices Information Center database (EpiCenter).

b. Financial reports must be submitted semi-annually and include a summary of expenditures during the period. The reports are cumulative and must be submitted on the Financial Status Report (FSR) form SF 269A.

c. Final Reports

i. Providers completing the final year of their agreement must submit, in lieu of the last semi-annual progress report, a final progress report that is cumulative over the entire award period. The final progress report is due 90 days after the end of the agreement.

ii. Providers completing the final year of their award must submit, in lieu of the last semi-annual FSR, a final FSR that is cumulative over the entire award period. The final FSR is due 90 days after the end of the agreement.

d. Two copies of all financial reports must be submitted to the Office of Grants Management. Three copies of all progress reports must be submitted to the Corporation's cognizant training officer for the award.

e. The provider must meet as necessary with the cognizant training officer or with other staff or consultants designated by the Corporation training official to exchange views, ideas, and information concerning training and technical assistance. The provider must submit such special reports as may be reasonably requested by the Corporation.

4. Other Requirements

a. Assure that provider staff and consultants are fully versed in the background, approach, vocabulary, assets, needs and objectives of the Corporation, each of its program streams, and the AmeriCorps Promise Fellows Program.

b. Participate in the planning and implementation of national provider meetings and training events as requested by the Corporation.

c. Collaborate in materials development and training events organized by other providers or the Corporation, as requested.

d. Share effective practices with other providers through the training and technical assistance listserv, the Effective Practices Information Center database (EpiCenter) and other mechanisms such as the National Service-Learning Clearinghouse and the National Service Resource Center.

e. Use technology creatively and effectively as a cost-effective strategy for reaching large numbers of sponsors, Fellows and others related to the AmeriCorps Promise Fellows Program.

VI. Application Guidelines

A. Proposal Content and Submission

Applicants must submit one unbound, original proposal and two bound copies. Applicants may voluntarily submit two additional bound copies for a total of four copies. Proposals may not be submitted by facsimile. Proposals must include the following:

1. Cover Page

The cover page must include the name, address, phone number, fax number, e-mail address of the contact person and World Wide Web site URL (if available) of the applicant organization; the category for which the application is being submitted; a 250-500 word summary of proposed training and technical assistance activities; and, the total funding amount requested for the first year.

2. List of Activities and Materials

A one-to-two page list of all proposed training and technical assistance activities and materials.

3. Training and Technical Assistance Delivery Plan

A bulleted narrative of no more than 15 double-spaced, single-sided, typed pages in no smaller than 12-point font that includes:

a. The applicant's proposed strategy and rationale for providing training and technical assistance to AmeriCorps Promise Fellows and sponsors for year one, with proposed changes (if any) for years two and three. The applicant should use the specific deliverables and requirements outlined in Section V of this Notice as a starting point for a plan and should present these deliverables in a way that creatively reflects the applicant's areas of expertise and knowledge of national service audiences. It is not appropriate to simply re-list the tasks stated in this Notice. As appropriate, the applicant should also include the following information for each proposed training and technical assistance activity, product, or event: Type of activity, number, frequency, audience, knowledge and skills learners will gain, estimated audience size, content, skill level, proposed needs assessment and continuous improvement strategies.

b. A detailed one-year work plan and timeline for completing all training and technical assistance activities. The work plan should include all deliverables and the tasks leading to them.

c. A plan for regularly evaluating performance and using findings for continuous improvement.

4. Training Course outline and Description

A 250-500 word description for one face-to-face training course in a content area relevant to the program. The face-to-face course should be considered part of a two-day event for 50-75 AmeriCorps Promise Fellow sponsors or part of a discrete training event for Fellows in a skill development area relevant to their service. Applicant should submit a session description that includes desired learner outcomes and an outline of session content and the activities that will accomplish the desired outcomes.

5. Technology Strategy

A one-page description of how applicant proposes to effectively use technology to broaden the reach of training and technical assistance delivery. Description should include target audience, proposed use of technology, rationale for approach, concepts and skills to be delivered, desired learner outcomes, and how outcomes will be achieved.

6. Organizational Capacity

a. A narrative of no more than three double-spaced, single-sided, typed pages in no smaller than 12-point font which describes:

(1) The organization's capacity to provide training and technical assistance services nationwide, including descriptions of recent work similar to that being proposed;

(2) The organization's knowledge of and experience with national service programs;

b. Names and contact information of references that can be contacted with regard to the above work.

c. A list of proposed staff with areas of expertise (note: final list will be subject to Corporation approval) and resumes of the individuals primarily responsible for the deliverables proposed in the application.

d. If applicable, an organizational chart that clearly shows the relationship of the training and technical assistance service provider(s) to the overall structure of the legal applicant to this notice.

7. Budget

A detailed, line-item budget with costs organized by personnel, task and sub-task and related to the activities and deliverables outlined in the introductory narrative and work plan. Costs in proposed budgets must consist solely of costs allowable under applicable cost principles found in OMB Circulars (OMB Circular A-87 for state and local governments, A-121 for non-profit organizations and A-21 for institutions of higher learning).

Applicants should be mindful that a demonstrated commitment to providing services in the most cost-effective manner possible will be a major consideration in the evaluation of proposals. Provider match is not required. The budget should include:

a. Proposed staff and expert-consultant hours and pay rates by task and sub-task;

b. Types and quantities of other direct costs being proposed by task and subtask (for example, amounts of travel and volume of other task-related resources, such as communications, postage, etc.).

8. Budget Narrative

Provide a budget narrative that corresponds with all items in the line-item budget and that includes an explanation and cost basis for all cost estimates that appear in the line-item budget. The narrative should clearly show the following:

a. How each cost was derived, using equations to reflect all factors considered.

b. The anticipated unit cost (with derivation) of the various deliverables (such as training events, publications and technical assistance interventions).

B. Selection Criteria

To ensure fairness to all applicants, the Corporation reserves the right to take remedial action, up to and including disqualification, in the event a proposal fails to comply with the requirements relating to page limits, line spacing, and font size. The Corporation will assess applications based on the criteria listed below.

1. Quality (35%)

The Corporation will consider the quality of the proposed activities based on:

a. Evidence of the applicant's knowledge of the goals of the Corporation, its program streams, the needs and goals of the AmeriCorps Promise Fellows Program, and the role of training and technical assistance in supporting this program.

b. The soundness of the proposed strategy to carry out the activities proposed, based on the audience appropriateness, strategic nature (i.e., broad reaching and capacity building), effectiveness and creativity of the applicant's approach and workplan; and on evidence of the applicant's knowledge of adult learning and experience in training adults.

2. Organizational and Personnel Capacity (35%)

The Corporation will consider the organizational capacity of the applicant to deliver the proposed services based on:

a. Evidence of the organization's experience in delivering high-quality adult training and technical assistance in the category under consideration in a flexible, responsive, collaborative and creative manner; experience with or knowledge of national or community service as described by applicant; and experience using technology as a teaching tool.

b. Evidence of experience providing training and technical assistance to adults in the appropriate training and technical assistance category on the part of the proposed staff and consultants as demonstrated by annotated staff lists or resumes.

c. Demonstrated ability to manage a federal grant or apply sound fiscal management principles to grants and cost accounting as evidenced by an annotated list of applicant's previous grants experience.

d. Demonstrated ability to provide training and technical assistance services nationwide as evidenced by proposed technology plan, proposed staffing and previous levels of activity and experience.

3. Evaluation (10%)

The Corporation will consider how the applicant:

a. Proposes to assess the effectiveness and need for its services and products delivered under the award.

b. Plans to use assessments of its services and products to modify and improve subsequent services and products.

4. Budget (20%)

The Corporation will consider the budget based on:

a. Scope and cost-effectiveness of the proposed training and technical assistance activities in relation to the scope and depth of the services proposed (i.e., the number of Fellows, sponsors and host organizations the proposed activities are expected to reach and the degree to which the provider provides a reasonable estimate of the amount of services the organization will be able to provide);

b. The clarity and thoroughness of the budget and budget narrative (see specifications under “Budget Narrative”).

VII. Glossary of Terms

America's Promise—The Alliance for Youth

The multi-year, national campaign that is taking the mission and goals of the Presidents' Summit for America's Future forward. Launched under the leadership of its founding chairman, Ret. General Colin L. Powell, America's Promise works to ensure that the nation's young people have access to all five promises by mobilizing organizations and individuals from the private, public, and non-profit sectors—both nationally and locally—to make and deliver commitments to youth.

Effective Practices Information Center (EpiCenter)

EpiCenter is the Corporation's online database of effective program practices in national service. Its mission is to support practitioners in developing sustainable programs that lead to positive outcomes for beneficiaries, participants, institutions, and communities and to make this information widely accessible across the national service network. Providers are required to submit effective training and program practices to EpiCenter. The database can be visited at www.nationalservice.org/resources/epicenter.

Grantees

Entities funded directly by the Corporation. In the case of the AmeriCorps Promise Fellows program, these may include: state commissions on national and community service, national non-profit organizations, Indian tribes, and entities in states or U.S. Territories that do not have a state commission.

National Service-Learning Clearinghouse

The National Service-Learning Clearinghouse is a center for the collection and dissemination of information on service-learning for national service awardees and the general public engaged in service-learning. The Clearinghouse maintains and operates a Web site (www.servicelearning.org) and service-learning listservs, a library of print and media materials related to service-learning, and a toll-free information and referral service. Providers are required to submit copies of service-learning related training materials and training scripts to the National Service-Learning Clearinghouse.

National Service Resource Center (NSRC)

The National Service Resource Center (NSRC) serves as a repository of information on all aspects of national service. The NSRC manages most of the Corporation's listservs and maintains and operates a library of print and media materials related to service and a toll-free information and referral service. Training and technical assistance publications are posted or distributed by the NSRC and its Web site (www.etr.org/nsrc) includes a calendar of training events and links to all current providers.

CFDA No. 94.009 Training and Technical Assistance.
Dated: November 14, 2001.
David Rymph,
Acting Director, Department of Evaluation and Effective Practices.

[FR Doc. 01-28839 Filed 11-16-01; 8:45 am]

BILLING CODE 6050-$$-P